DEPARTMENT OF ENERGY

Federal Energy Regulatory Commission

[Docket No. EC01-131-000, et al.]

Conectiv Energy, Inc., et al. Electric Rate and Corporate Regulation Filings

August 3, 2001.

Take notice that the following filings have been made with the Commission:

1. Conectiv Energy, Inc., Conectiv Delmarva Generation, Inc.

[Docket No. EC01-131-000]

Take notice that on July 26, 2001, Conectiv Energy, Inc. (CEI) and Conectiv Delmarva Generation, Inc. (CDG) jointly filed an application pursuant to Section 203 of the Federal Power Act for authorization of the sale by CEI to CDG of jurisdictional transmission facilities appurtenant to four generating units that CEI is also selling to CDG. The four generating units are Hay Road 5, Hay Road 6, Hay Road 7 and Hay Road 8. Hay Road 6 and Hay Road 7 are currently operational, while Hay Road 5 and Hay Road 8 are currently under construction. The total generating capacity of all the units will be 550 MW when construction is completed.

A copy of the filing has been served on the Delaware Public Service Commission.

Comment date: August 16, 2001, in accordance with Standard Paragraph E at the end of this notice.

2. Edison Mission Energy

[Docket No. EC01-133-000]

Take notice that on July 27, 2001, Edison Mission Energy (Applicant), acting on behalf of its public utility subsidiaries, filed with the Federal Energy Regulatory Commission (Commission) an application pursuant to section 203 of the Federal Power Act for authorization of a transfer of indirect control of jurisdictional facilities, arising from the proposed reincorporation of the Applicant under the laws of the State of Delaware. Applicant explained that the proposed transaction brings it within the same corporate governance regime as its parent, Mission Energy Holding Company, and will have no effect on competition, rates, or regulation and is consistent with the public interest.

Comment date: August 17, 2001, in accordance with Standard Paragraph E at the end of this notice.

3. Duke Energy Moss Landing, LLC, Duke Energy Morro Bay, LLC, Duke Energy Oakland, LLC, Duke Energy South Bay, LLC, Duke Energy Trading & Marketing, LLC

[Docket Nos. ER98-2680-000, ER98-2680-002, ER98-3418-000, ER98-2681-000, ER98-2681-002, ER98-3417-000, ER98-2682-000, ER98-2682-002, ER98-3416-000, ER99-1785-000, ER99-1785-001 and ER99-2774-000]

Take notice that on July 19, 2001, a filing was made to correct the docket numbers of several recent filings made by Duke Energy Moss Landing, LLC, Duke Energy Morro Bay, LLC, Duke Energy Oakland, LLC, Duke Energy South Bay, LLC, and Duke Energy Trading & Marketing, LLC, (collectively Duke Energy). Duke Energy's instant submittal contains the filings it made June 8, June 22, June 25 and July 11, 2001, with clearly marked, yellow, errata sheets identifying the correct docket numbers. Duke Energy originally made the four filings under Docket Nos. ER98-2860, ER98-2861, and ER98-2862. However, the 6 and 8 in the docket nos. were transposed. The correct dockets are ER98-2680, ER98-2681, and ER98-2682.

Comment date: August 15, 2001, in accordance with Standard Paragraph E at the end of this notice.

4. Southern Company Services, Inc.

[Docket No. ER01-1698-004]

Take notice that on July 31, 2001, Southern Company Services, Inc. (SCS), acting on behalf of Alabama Power Company, Georgia Power Company, Gulf Power Company, Mississippi Power Company, and Savannah Electric and Power Company (Savannah Electric) (collectively referred to as Southern Company), filed an amendment to its compliance filing to the Commission's Order in Southern Company Services, Inc., 95 FERC ¶ 61,307. In that order, the Commission accepted for filing an unexecuted Interconnection Agreement between Savannah Electric and Effingham County Power LLC. In addition, the Commission also ordered that Southern Company amend its Interconnection Procedure to make certain revisions to the scope of Interconnection Studies that it performs. The Compliance Filing was made on June 29, 2001. The Amendment to that Compliance Filing expands the scope of the Interconnection Studies available to Interconnection Customers.

Comment date: August 21, 2001, in accordance with Standard Paragraph E at the end of this notice.

5. American Electric Power Service Corporation

[Docket No. ER01-1900-001]

Take notice that on July 27, 2001, the American Electric Power Service Corporation (AEPSC) tendered for filing an amended Interconnection and Operation Agreement between Columbus Southern Power Company and Duke Energy Franklin LLC. This filing is made in compliance with the Commission's Order Conditionally Accepting Unexecuted Interconnection and Operation Agreement issued in this docket on June 28, 2001, 95 FERC ¶ 61,472 (2001). The agreement is pursuant to the AEP Companies' Open Access Transmission Service Tariff (OATT) that has been designated as the Operating Companies of the American Electric Power System FERC Electric Tariff Revised Volume No. 6, effective June 15, 2000.

AEP requests an effective date of June 25, 2001.

A copy of the filing was served upon the Ohio Public Utilities Commission.

Comment date: August 17, 2001, in accordance with Standard Paragraph E at the end of this notice.

6. Desert Power, L.P.

[Docket No. ER01-2071-001]

Take notice that on July 31, 2001, Desert Power, L.P. submitted for filing a substitute tariff sheet to its FERC Electric Tariff, Original Volume No. 1 pursuant to a letter order issued July 16, 2001 in Docket No. ER01-2071-000.

Comment date: August 21, 2001, in accordance with Standard Paragraph E at the end of this notice.

7. Virginia Electric and Power Company

[Docket No. ER01-2362-000]

Take notice that on July 31, 2001, Virginia Electric and Power Company tendered for filing a letter requesting that the Commission defer further consideration of its filing of two unexecuted interconnection agreements with Old Dominion Electric Cooperative pending further negotiations to resolve the outstanding issue.

Comment date: August 21, 2001, in accordance with Standard Paragraph E at the end of this notice.

8. PacifiCorp

[Docket No. ER01-2525-001]

Take notice that on July 31, 2001, PacifiCorp tendered for filing with the Federal Energy Regulatory Commission (Commission) in accordance with Part 35 of the Commission's Rules and Regulations, 18 CFR Part 35, a complete copy of a Long-Term Firm Transmission Service Agreement with PacifiCorp Power Marketing (PPM) under PacifiCorp's FERC Electric Tariff, Second Revised Volume No. 11 (Tariff).

Copies of this filing were supplied to the Washington Utilities and Transportation Commission and the Public Utility Commission of Oregon.

Comment date: August 21, 2001, in accordance with Standard Paragraph E at the end of this notice.

9. Idaho Power Company

[Docket No. ER01-2711-000]

Take notice that on July 27, 2001, Idaho Power Company filed a Network Service Agreement for Network Integration Transmission Service, and a Network Operating Agreement, between Idaho Power Company and PacifiCorp, under its open access transmission tariff in the above-captioned proceeding.

Comment date: August 17, 2001, in accordance with Standard Paragraph E at the end of this notice.

10. Progress Energy Inc., on behalf of Carolina Power & Light Company

[Docket No. ER01-2724-000]

Take notice that on July 30, 2001, Carolina Power & Light Company (CP&L) tendered for filing an executed Service Agreement between CP&L and the following eligible buyer, Williams Energy Marketing & Trading Company. Service to this eligible buyer will be in accordance with the terms and conditions of CP&L's Market-Based Rates Tariff, FERC Electric Tariff No. 4, for sales of capacity and energy at market-based rates.

CP&L requests an effective date of July 27, 2001 for this Service Agreement.

Copies of the filing were served upon the North Carolina Utilities Commission and the South Carolina Public Service Commission.

Comment date: August 20, 2001, in accordance with Standard Paragraph E at the end of this notice.

11. University Park Energy, LLC

[Docket No. ER01-2725-000]

Take notice that on July 30, 2001, University Park Energy, LLC (University Park) tendered for filing a Test Power Purchase Agreement for short term power sales by University Park to Exelon Generating Company, LLC.

University Park requests that the Agreement become effective on May 15, 2001.

Comment date: August 20, 2001, in accordance with Standard Paragraph E at the end of this notice.

12. Big Sandy Peaker Plant, LLC

[Docket No. ER01-2726-000]

Take notice that on July 30, 2001, Big Sandy Peaker Plant, LLC (Big Sandy) tendered for filing an umbrella service agreement for short-term power sales by Big Sandy to Constellation Power Source, Inc.

Big Sandy requests that the agreement become effective on June 7, 2001.

Comment date: August 20, 2001, in accordance with Standard Paragraph E at the end of this notice.

13. American Transmission Company LLC

[Docket No. ER01-2727-000]

Take notice that on July 30, 2001, American Transmission Company LLC (ATCLLC) tendered for filing an executed Distribution-Transmission Interconnection Agreement between ATCLLC and Upper Peninsula Power Company.

ATCLLC requests an effective date of June 29, 2001.

Comment date: August 20, 2001, in accordance with Standard Paragraph E at the end of this notice.

14. Tenaska Georgia Partners, L.P.

[Docket No. ER01-2728-000]

Take notice that on July 30, 2001, Tenaska Georgia Partners, L.P., 1044 North 115 Street, Suite 400, Omaha, Nebraska 68154 (Tenaska Georgia), filed with the Federal Energy Regulatory Commission the Power Purchase Agreement between Tenaska Georgia and PECO Energy Company (PECO) dated as of August 24, 1999 (PPA). The filing is made pursuant to Tenaska Georgia's authority to sell power at market-based rates under its Market-Based Rate Tariff, Rate Schedule FERC No. 1, Original Volume No. 1, approved by the Commission on July 28, 1999 in Docket No. ER99-3165-000.

Comment date: August 20, 2001, in accordance with Standard Paragraph E at the end of this notice.

15. Alcoa Power Generating Inc.

[Docket No. ER01-2729-000]

Take notice that on July 30, 2001, Alcoa Power Generating Inc. (APGI) tendered for filing with the Commission a service agreement between Cinergy Services, Inc. (Cinergy) and APGI under APGI's Market Rate Tariff. This Tariff was accepted for filing by the Commission on July 13, 1999, in Docket No. ER99-2932-000.

The service agreement with Cinergy is proposed to be effective July 1, 2001.

Comment date: August 20, 2001, in accordance with Standard Paragraph E at the end of this notice.

16. Southern Company Services, Inc.

[Docket No. ER01-2730-000]

Take notice that on July 30, 2001, Southern Company Services, Inc. (SCS), acting on behalf of Alabama Power Company, Georgia Power Company, Gulf Power Company, Mississippi Power Company, and Savannah Electric and Power Company (collectively Southern Companies), filed Amendment No. 1 to the Agreement for Network Integration Transmission Service and Complementary Services between the , Department of Energy, acting by and through the Southeastern Power Administration (SEPA), and SCS, as agent for Southern Companies. Amendment No. 1 modifies the amount of resources SEPA allocates to customers and the amount of network transmission service Southern Companies provide to SEPA. The Agreement is designated First Revised Rate Schedule FERC No. 392.

Comment date: August 20, 2001, in accordance with Standard Paragraph E at the end of this notice.

17. Wolverine Power Supply Cooperative, Inc.

[Docket No. ER01-2731-000]

Take notice that on July 30, 2001, Wolverine Power Supply Cooperative, Inc. (Wolverine) tendered for filing an amendment to the Wolverine Open Access Transmission Tariff. The amendment adds procedures for interconnection of new generating facilities to the Wolverine transmission system or increasing the capacity of existing interconnected generating facilities. The procedures also include a pro forma Generator Interconnection and Operating Agreement. In addition, Wolverine proposes to add a pro forma Facilities Study Agreement and System Impact Study Agreement.

Copies of the filing were served on Wolverine's five wholesale power customers and the Michigan Public Service Commission.

Comment date: August 20, 2001, in accordance with Standard Paragraph E at the end of this notice.

18. Perryville Energy Partners, LLC

[Docket No. ER01-2732-000]

Take notice that on July 31, 2001, Perryville Energy Partners, LLC tendered for filing with the Federal Energy Regulatory Commission (Commission), a Tolling Agreement between Perryville Energy Partners, LLC and Williams Energy Marketing & Trading. The filing is made pursuant to Perryville Energy Partners LLC's authority to sell power at market-based rates under its Market-Based Rates Tariff, FERC Electric Tariff Original Volume No. 1, approved by the Commission May 3, 2001 in Docket No. ER01-1397-000.

Comment date: August 21, 2001, in accordance with Standard Paragraph E at the end of this notice.

19. Mid-Continent Area Power Pool

[Docket No. ER01-2733-000]

Take notice that on July 31, 2001, the Mid-Continent Area Power Pool, on behalf of its public utility members, filed short-term firm and non-firm service agreements under MAPP Schedule F with Tractebel Energy Marketing, Inc.; BP Energy Company; Associated Electric Cooperative, Inc.; and Lighthouse Energy Trading Company, Inc.

Comment date: August 21, 2001, in accordance with Standard Paragraph E at the end of this notice.

20. PJM Interconnection, L.L.C.

[Docket No. ER01-2734-000]

Take notice that on July 31, 2001, PJM Interconnection, L.L.C. (PJM), filed amendments to Schedule 11 of the Reliability Assurance Agreement Among Load Serving Entities in The PJM Control Area (RAA) to include language inadvertently deleted from the RAA in amendments filed and approved in Docket No. EL01-63-000.

Copies of this filing were served upon all PJM members and each state electric utility regulatory commission in the PJM control area.

Comment date: August 21, 2001, in accordance with Standard Paragraph E at the end of this notice.

21. PJM Interconnection, L.L.C.

[Docket No. ER01-2735-000]

Take notice that on July 31, 2001, PJM Interconnection, L.L.C. (PJM), on behalf of and at the request of Allegheny Electric Cooperative, Inc. (Allegheny) filed for acceptance or approval Allegheny's revenue requirement associated with the reactive power production of Allegheny's share of the Susquehanna Steam Electric Station to enable PJM, under the PJM Open Access Transmission Tariff, to collect this revenue requirement and to allocate to Allegheny an appropriate share of the revenues collected by PJM.

PJM, on behalf of Allegheny, requested a waiver of the Commission's notice requirement to allow an effective date for the collection of Allegheny's revenue requirement of August 1, 2001, or if the Commission cannot accommodate August 1, 2001, then September 1, 2001.

Copies of this filing were served upon all PJM members and each state electric utility regulatory commission in the PJM control area.

Comment date: August 21, 2001, in accordance with Standard Paragraph E at the end of this notice.

22. Niagara Mohawk Power Corporation

[Docket No. ER01-2736-000]

Take notice that on July 30, 2001, Niagara Mohawk Power Corporation (Niagara Mohawk) tendered for filing with the Federal Energy Regulatory Commission an extension of Rate Schedule No. 138 between Niagara Mohawk and the New York Power Authority (NYPA).

Niagara Mohawk requests an effective date of July 1, 2001.

Niagara Mohawk has served copies of the filing upon the New York State Public Service Commission, NYPA, the New York Independent System Operator and the New York State Electric & Gas Corporation.

Comment date: August 20, 2001, in accordance with Standard Paragraph E at the end of this notice.

23. Southern California Edison Company

[Docket No. ER01-2737-000]

Take notice that on July 31, 2001, Southern California Edison Company (SCE) tendered for filing under SCE's Wholesale Distribution Access Tariff a Service Agreement for Wholesale Distribution Service and an Interconnection Facilities Agreement (collectively, Agreements) between SCE and The Wind Turbine Company (WTC).

These Agreements specify the terms and conditions under which SCE will interconnect WTC's generating facility to its electrical system and provide Distribution Service for up to 500 kW of power produced by the generating facility.

SCE respectfully requests the Agreements to become effective August 1, 2001.

Copies of this filing were served upon the Public Utilities Commission of the State of California and WTC.

Comment date: August 21, 2001, in accordance with Standard Paragraph E at the end of this notice.

24. Entergy Services, Inc.

[Docket No. ER01-2738-000]

Take notice that on July 31, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Exelon Generation Company, LLC.

Comment date: August 21, 2001, in accordance with Standard Paragraph E at the end of this notice.

25. Entergy Services, Inc.

[Docket No. ER01-2739-000]

Take notice that on July 31, 2001, Entergy Services, Inc., on behalf of Entergy Arkansas, Inc., Entergy Gulf States, Inc., Entergy Louisiana, Inc., Entergy Mississippi, Inc., and Entergy New Orleans, Inc., (collectively, the Entergy Operating Companies) tendered for filing a long-term Firm Point-To-Point Transmission Service Agreement between Entergy Services, Inc., as agent for the Entergy Operating Companies, and Exelon Generation Company, LLC.

Comment date: August 21, 2001, in accordance with Standard Paragraph E at the end of this notice.

26. PPL Electric Utilities Corporation

[Docket No. ER01-2740-000]

Take notice that on July 30, 2001, PPL Electric Utilities Corporation (PPL Electric) filed with the Federal Energy Regulatory Commission an Interconnection Agreement between PPL Electric and Armstrong World Industries, Inc.

PPL Electric requests an effective date of July 16, 2001 for the Interconnection Agreement.

PPL Electric states that it has served a copy of this filing on Armstrong World Industries, Inc.

Comment date: August 20, 2001, in accordance with Standard Paragraph E at the end of this notice.

27. Plains End, LLC

[Docket No. ER01-2741-000]

Take notice that on July 31, 2001, Plains End, LLC (Plains End) submitted for filing, pursuant to Section 205 of the Federal Power Act, and Part 35 of the Commission's regulations, an application for authorization to make sales of capacity, energy, and certain Ancillary Services at market-based rates; to reassign transmission capacity; and to resell firm transmission rights (FTRs). Plains End proposes to construct a natural gas-fired power plant of approximately 113 MW capacity in Arvada, Colorado.

Comment date: August 21, 2001, in accordance with Standard Paragraph E at the end of this notice.

28. Rock River I, LLC

[Docket No. ER01-2742-000]

Take notice that on July 30, 2001, Rock River I, LLC (Rock River) applied to the Commission for acceptance of Rock River's Rate Schedule FERC No. 1; the granting of certain blanket approvals, including the authority to sell electric energy and capacity at market-based rates; and the waiver of certain Commission regulations. Rock River also submitted a long-term power purchase agreement between Rock River and PacifiCorp for acceptance as a service agreement under the market-based rate tariff.

Comment date: August 20, 2001, in accordance with Standard Paragraph E at the end of this notice.

29. American Transmission Company LLC

[Docket No. ER01-2743-000]

Take notice that on July 31, 2001, American Transmission Company LLC (ATCLLC) tendered for filing a Firm and Non-Firm Point-to-Point Service Agreement between ATCLLC and Duke Energy Trading & Marketing.

ATCLLC requests an effective date of July 16, 2001.

Comment date: August 21, 2001, in accordance with Standard Paragraph E at the end of this notice.

30. Mid-Continent Area Power Pool

[Docket No. ER01-2744-000]

Take notice that on July 31, 2001, the Mid-Continent Area Power Pool, on behalf of its public utility members, filed short-term firm and non-firm service agreements under MAPP Schedule F, FERC Electric Tariff, First Revised Volume No. 1, with TXU Energy Trading Company and Axia Energy, LP.

Comment date: August 21, 2001, in accordance with Standard Paragraph E at the end of this notice.

31. Puget Sound Energy, Inc.

[Docket No. ER01-2745-000]

Take notice that on July 31, 2001, Puget Sound Energy, Inc. (PSE) tendered for filing a Second Revised Schedule 4 of its Open Access Transmission Tariff (“OATT”). The second revised Schedule 4 implements a market pricing mechanism for imbalance service.

PSE requests an effective date of October 1, 2001 for the filing.

A copy of the filing was served upon all parties in the above-referenced dockets.

Comment date: August 21, 2001, in accordance with Standard Paragraph E at the end of this notice.

32. New Albany Power I, LLC

[Docket No. ER01-2746-000]

Take notice that on July 31, 2001, New Albany Power I, LLC (New Albany) filed a revision to its market-based rate schedule with changes clarifying the affiliate restrictions on sales of power and non-power goods. The revised rate schedule will go into effect when Enron North America Corp. consummates its upstream sale of New Albany's limited liability company interests to Duke Energy North America, LLC.

Comment date: August 21, 2001, in accordance with Standard Paragraph E at the end of this notice.

33. Niagara Mohawk Power Corporation

[Docket No. ES01-34-001

Take notice that on July 25, 2001, Niagara Mohawk Power Corporation submitted an amendment to its original application in this proceeding, pursuant to section 204 of the Federal Power Act. The amendment is a revised certified resolution of Niagara Mohawk's Board of Directors authorizing the issuance of no more than $700 million in short-term debt.

Comment date: August 15, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20057 Filed 8-9-01; 8:45 am]

BILLING CODE 6717-01-P